ENVIRONMENTAL PROTECTION AGENCY

40 CFR Part 52

[EPA-R03-OAR-2011-0600; FRL-9479-6]

Approval and Promulgation of Air Quality Implementation Plans; Maryland; Adoption of Control Techniques Guidelines for Plastic Parts and Business Machines Coatings

AGENCY: Environmental Protection Agency (EPA).

ACTION: Final rule.

SUMMARY: EPA is approving a State Implementation Plan (SIP) revision submitted by the State of Maryland. This SIP revision includes amendments to the Code of Maryland (COMAR) 26.11.19.07, Volatile Organic Compounds from Specific Processes, Paper, Fabric, Film and Foil Coating, and adds new COMAR 26.11.19.07-2, Plastic Parts and Business Machines Coating. Maryland's SIP revision meets the requirement to adopt Reasonably Available Control Technology (RACT) for sources covered by EPA's Control Techniques Guidelines (CTG) standards for plastic parts and business machines coatings and will help Maryland attain and maintain the National Ambient Air Quality Standard (NAAQS) for ozone. EPA is approving this revision concerning the adoption of the CTG requirements for plastic parts and business machines coatings in accordance with the requirements of the Clean Air Act (CAA).

DATES: Effective Date: This final rule is effective on November 16, 2011.

ADDRESSES: EPA has established a docket for this action under Docket ID Number EPA-R03-OAR-2011-0600. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Irene Shandruk, (215) 814-2166, or by e-mail at shandruk.irene@epa.gov.

SUPPLEMENTARY INFORMATION:

I. Background

Section 182(b)(2) of the CAA, 42 U.S.C. 7511a(b)(2), requires that states having moderate nonattainment areas for ozone revise their SIP to include provisions requiring the implementation of RACT for certain sources, including categories of volatile organic compound (VOC) sources covered by a CTG document issued by the Administrator between November 15, 1990 and the date of attainment. EPA originally developed CTG standards for miscellaneous metal and plastic products, which includes plastic parts and business machines coating, in 1978 and revised them in 2008. Maryland subsequently made changes to its SIP which adopted EPA's CTG standards for plastic parts and business machines coatings. The formal SIP revision was submitted by Maryland to EPA on June 22, 2011. On August 19, 2011 (76 FR 51922), EPA published a notice of proposed rulemaking (NPR) for Maryland. The NPR proposed approval of Maryland's SIP revision for adoption of the CTG standards for plastic parts and business machines coatings. No comments were received on the NPR.

II. Summary of SIP Revision

On June 22, 2011, the Maryland Department of the Environment (MDE) submitted to EPA a SIP revision (#11-03) concerning the adoption of the emission limits for plastic parts and business machines coatings, part of the EPA miscellaneous metal and plastic parts coatings CTG. EPA develops CTGs as guidance on control requirements for source categories. States can follow the CTGs or adopt more restrictive standards. The State of Maryland has adopted EPA's CTG standards for plastic parts and business machine coating processes. These regulations are in COMAR 26.11.19, Volatile Organic Compounds from Specific Processes. Specifically, this revision amends the existing regulation at section 26.11.19.07 by moving existing VOC coating standards for plastic parts and vinyl from this section to a new section, COMAR 26.11.19.07-2, Plastic Parts and Business Machines Coating. Additionally, coating standards for plastic parts and business machines from EPA's CTG are being adopted into COMAR 26.11.19.07-2, as well as new definitions and application methods. Tables 1-3 below outline the emission standards adopted by Maryland for plastic parts coatings, business machines coatings, and printing standards.

Table 1—Plastic Parts Coating Standards
Coating installation | Applicability (pounds of VOC per day) | Pounds of VOC per gallon of coating (as applied minus water) | Kilograms of VOC per Liter of coating (as applied minus water)
Decorative coating of other plastic parts | 20 | 5.9 | 0.70
General, one-component | 15 | 2.3 | 0.28
General, multi-component | 15 | 3.5 | 0.42
Electric dissipating coatings and shock-free coatings | 15 | 6.7 | 0.80
Extreme performance | 15 | 3.5 | 0.42
Metallic | 15 | 3.5 | 0.42
Military specification, one-component | 15 | 2.8 | 0.34
Military specification, multi-component | 15 | 3.5 | 0.42
Mold seal | 15 | 6.3 | 0.76
Multi-colored coatings | 15 | 5.7 | 0.68
Optical coatings | 15 | 6.7 | 0.80
Plastic vehicle parts | 20 | 3.0 | 0.36
Vacuum-metalizing | 15 | 6.7 | 0.80
Vinyl | 20 | 3.8 | 0.45

Table 2—Business Machines Coating Standards
Coating installation | Applicability (pounds of VOC per day) | Pounds of VOC per gallon of coating (as applied minus water) | Kilograms of VOC per liter of coating (as applied minus water)
Prime coat | 15 | 2.9 | 0.35
Topcoat | 15 | 2.9 | 0.35
Texture coat | 15 | 2.9 | 0.35
Fog coat | 15 | 2.9 | 0.26
Touchup and repair | 15 | 2.9 | 0.35

Table 3—Printing Standards
Printing installation | Applicability (pounds of VOC per day) | Pounds of VOC per gallon of coating (as applied minus water) | Kilograms of VOC per liter of coating (as applied minus water)
Plastic other than vinyl | Non-major source | 5.8 | 0.69
Plastic other than vinyl | Major source as defined in COMAR 26.11.19.01B(4) | 3.8 | 0.45
Vinyl | 20 | 3.8 | 0.45

Other specific requirements concerning this rulemaking and the rationale for EPA's action are explained in the NPR and the Technical Support Document (TSD) and will not be restated here.

No public comments were received on the NPR.

III. Final Action

EPA is approving Maryland's adoption of the CTG requirements for plastic parts and business machines coatings as a revision to the Maryland SIP.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the state, and EPA notes that it will not impose substantial direct costs on Tribal governments or preempt Tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by December 16, 2011. Filing a petition for reconsideration by the Administrator of this final rule does not affect the finality of this action for the purposes of judicial review nor does it extend the time within which a petition for judicial review may be filed, and shall not postpone the effectiveness of such rule or action.

This action concerning Maryland's adoption of CTG standards for plastic parts and business machines coatings may not be challenged later in proceedings to enforce its requirements. (See section 307(b)(2).)

List of Subjects in 40 CFR Part 52

Environmental protection, Air pollution control, Incorporation by reference, Ozone, Reporting and recordkeeping requirements, Volatile organic compounds.

Dated: October 03, 2011.
W.C. Early,
Acting, Regional Administrator, Region III.

40 CFR part 52 is amended as follows:

PART 52—[AMENDED]

1. The authority citation for part 52 continues to read as follows:

Authority: 42 U.S.C. 7401 et seq.

Subpart V—Maryland

2. In § 52.1070, the table in paragraph (c) is amended by revising the entry for COMAR 26.11.19.07 and adding an entry for COMAR 26.11.19.07-2 to read as follows:

§ 52.1070 Identification of plan.

* * * * *

(c) * * *

EPA-Approved Regulations in the Maryland SIP
Code of Maryland administrative regulations (COMAR) citation | Title/subject | State effective date | EPA approval date | Additional explanation/citation at 40 CFR 52.1100
* * * * * * *
26.11.19 Volatile Organic Compounds from Specific Processes
* * * * * * *
26.11.19.07 | Paper, Fabric, Film, and Foil Coating | 5/16/11 | 10/17/11 [Insert page number where the document begins] | Revisions to Section title and Sections .07A and .07C(3).
* * * * * * *
26.11.19.07-2 | Plastic Parts and Business Machines Coating | 5/16/11 | 10/17/11 [Insert page number where the document begins] | New Regulation.
* * * * * * *

* * * * *

[FR Doc. 2011-26638 Filed 10-14-11; 8:45 am]

BILLING CODE 6560-50-P